DEPARTMENT OF COMMERCE

National Oceanic and Atmospheric Administration

RIN 0648-XD84

Notice of Solicitation of Public Comment on the Development of Alternative Aquaculture Feeds

AGENCY: National Marine Fisheries Service (NMFS), National Oceanic and Atmospheric Administration (NOAA), Commerce.

ACTION: Notice of solicitation of public comment on alternative aquaculture feeds.

SUMMARY: The National Marine Fisheries Service is soliciting public comment for ideas and recommendations on alternative dietary ingredients (feedstuffs) for aquaculture. This information is being gathered as part of the NOAA-U.S. Department of Agriculture alternative feeds initiative to help guide future research and development. Public comment is being collected in advance of a 2008 workshop on alternative feeds. Information submitted in response to this notice will be shared with workshop attendees.

DATES: Comments should be submitted by February 29, 2008, to ensure consideration. Comments submitted after that date will be considered to the extent possible.

ADDRESSES: Information about the NOAA Aquaculture Program and the NOAA-USDA Alternative Feeds Initiative is available on the NOAA Aquaculture Program website: http://aquaculture.noaa.gov.

Electronic comments should be submitted to NOAA.Aquaculture@noaa.gov. Written comments should be faxed to the NOAA Aquaculture Program clearly marked “Attn: Alternative Feeds Initiative” at (301) 713-9108; or mailed to the NOAA Aquaculture Program, Attn: Alternative Feeds Initiative, 1315 East-West Highway, Rm. 13117, Silver Spring, MD 20910.

FOR FURTHER INFORMATION CONTACT: Kate Naughten, NOAA Aquaculture Program, 1315 East-West Highway, SSMC #3 Mail Code F/AQ, Room 13117, Silver Spring, MD 20910, (301) 713-9079; or e-mail at: kate.naughten@noaa.gov.

SUPPLEMENTARY INFORMATION:

Background

The issue of feed ingredients is among the top challenges facing the global aquaculture industry. The protein-rich feed pellets used in aquaculture are made in part from small, bony fish species including herring, menhaden, anchovy, and sardines. These species, harvested worldwide for use in fish meal and fish oil, are under increasing commercial fishing pressure.

Fish meal and fish oil are principal feeds ingredients for cultured fish species including carp, shrimp, salmon, tilapia, trout, and catfish, as well as poultry and pigs. In 2002, 81 percent of the fish oil and 46 percent of the fish meal produced worldwide was used for aquaculture.

As ingredients in aquaculture feedstuffs, fish meal and fish oil supply the essential amino acids and fatty acids required for normal growth. In the U.S. and elsewhere, studies are underway to better understand the nutritional requirements of fish and shrimp and to evaluate the use of alternative dietary ingredients in aquaculture feed, including soybeans, barley, rice, peas, and other crops along with canola, lupine, wheat gluten, corn gluten, various plant proteins, algae, and seafood processing by-products.

Specifically, NMFS is seeking responses in following areas: (1) Groundbreaking research on alternative dietary ingredients (feedstuffs) for aquaculture, including plant based proteins, is expanding the United States and worldwide. Where should the federal government focus its research efforts in the area of alternative feeds for aquaculture? Are there specific areas that the federal government should not address? (2) What are potential alternative sources of protein and oil for aquaculture feeds? For example, are there specific opportunities for greater use of seafood processing waste and other agricultural by-products in aquaculture feeds? Are there specific obstacles to using these alternatives as alternative dietary ingredients in aquaculture feed? (3) What type of treatments or processes show promise for improvement of existing aquaculture feedstuffs and for developing new feedstuffs? How soon could these technologies be commercialized? (4) Fish meal and fish oil contribute important human nutritional components to aquaculture feeds such as omega 3 fatty acids. As the aquaculture feeds industry seeks to replace fish meal and fish oil with alternatives, how can the nutritional benefits of farmed seafood be maintained or enhanced? For example, what technologies exist for producing omega 3 fatty acids?

Dated: November 9, 2007.
John Oliver,
Deputy Assistant Administrator for Operations, National Marine Fisheries Service.

[FR Doc. E7-22358 Filed 11-14-07; 8:45 am]

BILLING CODE 3510-22-S